ENVIRONMENTAL PROTECTION AGENCY

[OPP-34143D; FRL-6828-1]

Dimethoate Products Cancellation Order and Label Amendment

AGENCY: Environmental Protection Agency (EPA).

ACTION: Notice.

SUMMARY: This notice announces EPA's cancellation order for the product and use cancellations as requested by companies (hereafter collectively referred to as the “EUP Registrants”) that hold the registrations of pesticide End-Use Products (EUPs) containing the active ingredient dimethoate and accepted by EPA, pursuant to section 6(f) of the Federal Insecticide, Fungicide, and Rodenticide Act (FIFRA). This order follows up a January 10, 2002 notice of receipt from the EUP Registrants, of requests for cancellations and or amendments of their dimethoate product registrations to terminate all indoor uses, certain agricultural uses and certain outdoor non-agricultural uses. In the January 10, 2002 notice, EPA indicated that it would issue an order granting the voluntary product and use registration cancellations unless the Agency received any substantive comment within the comment period that would merit its further review of these requests. The Agency did not receive any comments. Accordingly, EPA hereby issues in this notice a cancellation order granting the requested cancellations. Any distribution, sale, or use of the products subject to this cancellation order is only permitted in accordance with the terms of the existing stocks provisions of this cancellation order.

DATES: The cancellations are effective on March 13, 2002.

FOR FURTHER INFORMATION CONTACT: Patrick Dobak, Special Review and Reregistration Division (7508C), Office of Pesticide Programs, Environmental Protection Agency, 1200 Pennsylvania Ave., NW., Washington, DC 20460, telephone number: (703) 308-6249; fax number: (703) 308-7042; e-mail address: dobak.pat@epa.gov.

SUPPLEMENTARY INFORMATION:

I. General Information

A. Does this Action Apply to Me?

This action is directed to the public in general. You may be potentially affected by this action if you manufacture, sell, distribute, or use dimethoate products. The Congressional Review Act, 5 U.S.C. 801 et seq., as added by the Small Business Regulatory Enforcement Fairness Act of 1996, does not apply because this action is not a rule, for purposes of 5 U.S.C. 804(3).

Since other entities may also be interested, the Agency has not attempted to describe all the specific entities that may be affected by this action. If you have any questions regarding the applicability of this action to a particular entity, consult the person listed under FOR FURTHER INFORMATION CONTACT.

B. How Can I Get Additional Information, Including Copies of this Document and Other Related Documents?

1. Electronically. You may obtain electronic copies of this document, and certain other related documents that might be available electronically, from the EPA Internet Home Page at http://www.epa.gov/. To access this document, on the Home Page select “Laws and Regulations,” “Regulations and Proposed Rules,” and then look up the entry for this document under the “Federal Register—Environmental Documents.” You can also go directly to the Federal Register listings at http://www.epa.gov/fedrgstr/. To access information about the risk assessment for dimethoate, go to the Home Page for the Office of Pesticide Programs or go directly to http://www.epa.gov/pesticides/op/dimethoate.htm.

2. In person. The Agency has established an official record for this action under docket control number OPP 34143D. The official record consists of the documents specifically referenced in this action, any public comments received during an applicable comment period, and other information related to this action, including any information claimed as Confidential Business Information (CBI). This official record includes the documents that are physically located in the docket, as well as the documents that are referenced in those documents. The public version of the official record does not include any information claimed as CBI. The public version of the official record, which includes printed, paper versions of any electronic comments submitted during an applicable comment period, is available for inspection in the Public Information and Records Integrity Branch (PIRIB), Rm. 119, Crystal Mall #2, 1921 Jefferson Davis Hwy., Arlington, VA, from 8:30 a.m. to 4 p.m., Monday through Friday, excluding legal holidays. The PIRIB telephone number is (703) 305-5805.

II. Receipt of Requests to Cancel and Amend Registrations to Delete Uses

A. Background

Certain registrants requested in letters dated July, August, September, and October, 2001, that their dimethoate registrations be amended to delete all indoor uses and certain agricultural uses, as described below. The requests also included deletions of outdoor non-agricultural uses from the labeling of certain end-use products so that such products would be labeled for agricultural uses only. Similarly, other dimethoate end-use registrants requested voluntary cancellation of their dimethoate EUP registrations with indoor use and/or certain outdoor non-agricultural uses. EPA announced its receipt of these above-mentioned cancellation requests in a Federal Register Notice dated January 10, 2002 (67 FR 1345)(FRL-6817-5).

These requested cancellations and amendments are consistent with the requests in December 2000 by the manufacturers of dimethoate technical products, and EPA's approval of such requests, to terminate all residential uses and certain agricultural uses from their dimethoate product registrations. The indoor uses and agricultural uses subject to cancellation are identified in the list below:

List—Uses Requested for Termination

• Residential and public area uses. Any use in or around a structure used as a residence or domestic dwelling, or on any articles or areas associated with such structures (including household contents, home gardens, and home greenhouses).

• Any use in public or private building or structure (including recreational facilities, theaters, hotels, resorts, or other buildings used for public accommodation, or in any other commercial, industrial, or institutional building), or on any articles or areas associated with such structures, including refuse areas, building contents and landscaping and playgrounds.

• Agricultural uses. Housefly treatments on farm buildings and structures, farm animals, and manure piles.

In today's Cancellation Order, EPA is approving the registrants' requested cancellations and amendments of their dimethoate end-use products registrations to terminate all uses identified in the list above.

B. Requests for Voluntary Cancellation of End-Use Products

The end-use product registrations for which cancellation was requested are identified in the following Table 1.

Table 1.—End-Use Product Registration Cancellation Requests
Company | Registration No | Product
Bonide Products, Inc. | 4-256 | Bonide Systemic Insecticide
Value Garden Supply, LLC | 70-113 | Kill-Ko Cygon 2-E Systemic Insecticide
Value Garden Supply, LLC | 192-134 | Drexol Cygon Systemic Insecticide
Value Garden Supply, LLC | 5887-128 | Black Leaf Cygon 2-E
Rockland Corporation | 572-224 | Rockland Residual Fly Spray
Universal Cooperatives Inc. | 1386-449 | Cygon 2E Systemic Insecticide
AMVAC Chemical Corporation | 5481-54 | ALCO Cygon 2 E
Celaflor GMBH | 69129-3 | Celaflor Rose Patch

EPA did not receive any comments on the requests for cancellation of dimethoate products for residential use and the agricultural uses described above. Accordingly, the Agency is issuing an order in this notice canceling the registrations identified in Table 1, as requested by the EUP registrants.

C. Requests for Voluntary Amendments of End-Use Product Registrations to Terminate Certain Uses

Pursuant to section 6(f)(1)(A) of FIFRA, many EUP Registrants submitted requests to amend a number of their dimethoate end-use product registrations to terminate the uses identified in the List above or any other uses as specified for each product in the January 10, 2002, Dimethoate 6(f) Notice and reiterated in Table 2 below. EPA did not receive any comments expressing a need for any of the uses for which termination was requested. The registrations for which amendments to terminate specific uses were requested are identified in the following Table 2:

Table 2.—End-Use Product Registration Amendment Requests
Company | Registration No | Product Name:Use Deletions
Dragon Chemical Corporation | 16-160 | Dragon Cygon 2E Systemic Insecticide
Value Gardens Supply, LLC | 769-948 | Pratt Cygon 2-E Systemic Insecticide
Uniroyal Chemical Company Inc. | 400-278 | De-Fend E267 Dimethoate Systemic Insecticide
Southern Agricultural Insecticides, | 829-251 | SA-50 Brand Cygon 2 E Dimethoate Inc. Systemic Insecticide
Universal Cooperatives Inc. | 1386-449 | Cygon 2-E Systemic Insecticide
Universal Cooperatives Inc. | 1386-618 | Dimethoate 267 EC Systemic Insecticide
Helena Chemical Company | 5905-493 | Dimethoate 4EC
Helena Chemical Company | 5905-497 | 5 LB Dimethoate Systemic Insecticide
Voluntary Purchasing Group Inc. | 7401-338 | Hi-Yield Cygon
BASF Corporation | 7969-38 | Rebelate 2E Insecticide
Agriliance, LLC | 9779-273 | Dimate 4E
Platte Chemical Company, Inc. | 34704-207 34704-762 | Clean Crop Dimethoate 400 Flygon 2-E
Haco, Inc. | 2393-377 | Cygon 2-E Systemic Insecticide
Micro-Flo Company LLC | 51036-110 51036-198 | Dimethoate 4E Cymate 267
Cheminova Agro F/S | 67760-36 67760-44 | Chemathoate 267 E.C. Systemic Insecticide Dimethoate 4W

III. Cancellation Order

Pursuant to section 6(f) of FIFRA, EPA hereby approves the requested cancellations of dimethoate product and use registrations identified in Tables 1 and 2 of this Notice. Accordingly, the Agency orders that the dimethoate end-use product registrations identified in Table 1 are hereby canceled. The Agency also orders that all of the end-use product registrations identified in Table 2 are amended to cancel those uses identified in List 1. Any distribution, sale, or use of existing stocks of the products identified in Tables 1 and 2 in a manner inconsistent with the terms of this Order or the Existing Stock Provisions in Unit IV of this Notice will be considered a violation of section 12(a)(2)(K) of FIFRA and/or section 12(a)(1)(A) of FIFRA.

IV. Existing Stocks Provisions

For purposes of this Order, the term “existing stocks” is defined, pursuant to EPA's existing stocks policy (56 FR 29362, June 26, 1991), as those stocks of a registered pesticide product which are currently in the United States and which have been packaged, labeled, and released for shipment prior to the effective date of the amendment or cancellation. The existing stocks provisions of this Cancellation Order are as follows:

1. Distribution or sale of products bearing instructions for use on agricultural crops. The distribution or sale of existing stocks by the registrant of any product listed in Table 1 or 2 that bears instructions for use on the agricultural crops identified in List 1 will not be lawful under FIFRA 1 year after the effective date of the cancellation order, except for the purposes of shipping such stocks for export consistent with section 17 of FIFRA or for proper disposal. Persons other than the registrant may continue to sell or distribute the existing stocks of any product listed in Table 2 that bears instructions for any of the agricultural uses identified in List 1 after the effective date of the cancellation order.

2. Distribution or sale of products bearing instructions for use on outdoor non-agricultural sites. The distribution or sale of existing stocks by the registrant of any product listed in Table 1 or 2 that bears instructions for use on outdoor non-agricultural sites will not be lawful under FIFRA 1 year after the effective date of the cancellation order, except for the purposes of shipping such stocks for export consistent with section 17 of FIFRA or for proper disposal. Persons other than the registrant may continue to sell or distribute the existing stocks of any product listed in Table 1 or 2 that bears instructions for use on outdoor non-agricultural sites after the effective date of the cancellation order.

3. Distribution or sale by the registrant of products bearing instructions for use on indoor sites. The distribution or sale of existing stocks by the registrant of any product listed in Table 1 or 2 that bears instructions for use at or on any indoor sites(except mushroom houses), shall not be lawful under FIFRA as of the effective date of the cancellation order, except for the purposes of shipping such stocks for export consistent with section 17 of FIFRA or for proper disposal.

4. Distribution or sale by persons other than the registrant of existing stock of products for indoor use. The distribution or sale of existing stocks by any person other than the registrants of products listed in Table 1 or 2 bearing instructions for any indoor uses except mushroom houses will not be lawful under FIFRA after December 31, 2002, except for the purposes of shipping such stocks for export consistent with section 17 of FIFRA or for proper disposal.

5. Use of existing stocks. EPA intends to permit the use of existing stocks of products listed in Table 1 or 2 until such stocks are exhausted, provided such use is in accordance with the existing labeling of that product.

Lists of Subjects

Environmental protection, Memorandum of Agreement, Pesticides and pests.

Dated: March 4, 2002.
Lois A. Rossi,
Director, Special Review and Reregistration Division, Office of Pesticide Programs.

[FR Doc. 02-6090 Filed 3-12-02; 8:45 a.m.]

BILLING CODE 6560-50-S